DEPARTMENT OF DEFENSE

Office of the Secretary

[Transmittal No. 23-23]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-23, Policy Justification, and Sensitivity of Technology.

Dated: September 9, 2024.
Aaron T. Siegel,
Alternate OSD Federal Register Liaison Officer, Department of Defense.

BILLING CODE 6001-FR-P

BILLING CODE 6001-FR-C

Transmittal No. 23-23

Notice of Proposed Issuance of Letter of Offer Pursuant to Section 36(b)(1) of the Arms Export Control Act, as amended

(i) Prospective Purchaser: Republic of Poland

(ii) Total Estimated Value:

Major Defense Equipment * | $125 million
Other | $ 25 million
TOTAL | $150 million

Funding Source: National Funds

(iii) Description and Quantity or Quantities of Articles or Services under Consideration for Purchase:

Major Defense Equipment (MDE):

Eight hundred (800) AGM-114R2 Hellfire Missiles

Four (4) M36 Hellfire Captive Air Training Missiles (CATM)

Non-MDE:

Also included is Tactical Aviation Ground Munition Program Office technical assistance; Security Assistance Management Directorate technical assistance; Joint Attack Munition Systems technical assistance; Classified and Unclassified publications; spare parts; repair and return; storage; and other related elements of logistics and program support.

(iv) Military Department: Army (PL-B-UDZ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 16, 2023

*As defined in Section 47(6) of the Arms Export Control Act.

POLICY JUSTIFICATION

Poland—Hellfire Missiles

The Republic of Poland has requested to buy eight hundred (800) AGM-114R2 Hellfire missiles; and four (4) M36 Hellfire Captive Air Training Missiles (CATM). Also included is Tactical Aviation Ground Munition Program Office technical assistance; Security Assistance Management Directorate technical assistance; Joint Attack Munition Systems technical assistance; Classified and Unclassified publications; spare parts; repair and return; storage; and other related elements of logistics and program support. The total estimated cost is $150 million.

This proposed sale will support the foreign policy goals and national security objectives of the United States by improving the security of a NATO ally that is a force for political stability and economic progress in Europe.

The proposed sale will improve Poland's military goals of updating capability while further enhancing interoperability with the United States and other allies. Poland intends to use these defense articles and services to modernize its armed forces and expand its capability to strengthen its homeland defense and deter regional threats. Poland will have no difficulty absorbing this equipment into its armed forces.

The proposed sale of this equipment and support will not alter the basic military balance in the region.

The principal contractor will be Lockheed Martin Corporation, Orlando, FL. There are no known offset agreements proposed in connection with this potential sale.

Implementation of this proposed sale will not require the assignment of any additional U.S. Government or contractor representatives to Poland.

There will be no adverse impact on U.S. defense readiness as a result of this proposed sale.

Transmittal No. 23-23

Notice of Proposed Issuance of Letter of Offer Pursuant to Section 36(b)(1) of the Arms Export Control Act

Annex

Item No. vii

(vii) Sensitivity of Technology:

1. The Hellfire AGM-114R2 is a precision strike, semi-active laser-guided missile and is the principal air-to-ground weapon for the U.S. Army AH-64 Apache. The Hellfire R model incorporates a multi-purpose warhead with selectable effects appropriate for engagement of a wide range of targets including heavily or lightly armored targets, thin-skinned vehicles, urban structures, caves, and personnel.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Poland can provide substantially the same degree of protection for the sensitive technology being released as the U.S. Government. This sale is necessary in furtherance of the U.S. foreign policy and national security objectives outlined in the Policy Justification.

5. All defense articles and services listed in this transmittal have been authorized for release and export to Poland.

[FR Doc. 2024-20733 Filed 9-11-24; 8:45 am]

BILLING CODE 6001-FR-P